ENVIRONMENTAL PROTECTION AGENCY

[EPA-HQ-OAR-2015-0202; FRL-9995-78-OMS]

Information Collection Request Submitted to OMB for Review and Approval; Comment Request; Recordkeeping and Reporting Related to E15 (Renewal)

AGENCY: Environmental Protection Agency (EPA).

ACTION: Notice.

SUMMARY: The Environmental Protection Agency (EPA) has submitted an information collection request (ICR), Recordkeeping and Reporting Related to E15 (EPA ICR Number 2408.05, OMB Control Number 2060-0675) to the Office of Management and Budget (OMB) for review and approval in accordance with the Paperwork Reduction Act. This is a proposed extension of the ICR, which is currently approved through October 31, 2019. Public comments were previously requested via the Federal Register on March 18, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 29, 2019.

ADDRESSES: Submit your comments, referencing Docket ID No. EPA-HQ-OAR-2015-0202, to (1) EPA online using www.regulations.gov (our preferred method), by email to a-and-r-docket@epa.gov, or by mail to: EPA Docket Center, Environmental Protection Agency, Mail Code 28221T, 1200 Pennsylvania Ave. NW, Washington, DC 20460, and (2) OMB via email to oria_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: James W. Caldwell, Compliance Division, Office of Transportation and Air Quality, 6405A, Environmental Protection Agency, 1200 Pennsylvania Ave. NW, Washington, DC 20460; telephone number: (202) 343-9303; fax number: (202) 343-2802; email address: caldwell.jim@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Under the Clean Air Act, EPA granted partial waivers that allow gasoline containing greater than 10 volume percent ethanol and up to 15 volume percent ethanol (E15) to be introduced into commerce for use in model year 2001 and newer light-duty motor vehicles, subject to certain conditions. EPA issued a final rule establishing several measures to deter the use of E15 in ineligible vehicles and equipment (misfueling). The rule (1) prohibits the use of gasoline containing more than 10 volume percent ethanol in vehicles and equipment that are not covered by the partial waiver decisions, (2) requires all E15 dispensers to have a specific label indicating eligible vehicles, (3) requires E15 and related product transfer documents to contain certain information, and (4) requires ethanol producers, gasoline refiners, blenders, and related parties to conduct a survey of retail stations to monitor compliance with these requirements and submit periodic reports. In addition, to comply with conditions in the partial waivers, each survey party must implement a misfueling mitigation plan. This ICR covers the associated recordkeeping and reporting requirements.

Form Numbers: None.

Respondents/affected entities: Ethanol producers and importers, gasoline refiners, importers, terminals, distributors, retailers, and wholesale purchaser-consumers.

Respondent's obligation to respond: Mandatory (40 CFR part 80).

Estimated number of respondents: 2,604 (total).

Frequency of response: On occasion, quarterly, annually.

Total estimated burden: 14,770 hours (per year). Burden is defined at 5 CFR 1320.03(b).

Total estimated cost: $1,841,445 (per year), includes $128,125 in annualized capital or operation & maintenance costs.

Changes in Estimates: There is an increase of 1,500 hours in the total estimated respondent burden compared with the ICR currently approved by OMB. This increase is due to an adjustment to an hourly estimate and the addition of some burdens not addressed in the current ICR.

Courtney Kerwin,
Director, Regulatory Support Division.

[FR Doc. 2019-23620 Filed 10-29-19; 8:45 am]

BILLING CODE 6560-50-P